DEPARTMENT OF AGRICULTURE

Office of the Secretary

[Docket No. APHIS-2007-0065]

Declaration of Extraordinary Emergency Because of Plum Pox Virus

An exotic plant virus, plum pox virus, has been confirmed in New York and Michigan. Plum pox virus is the most devastating viral disease of stone fruit worldwide, causing yield losses to growers and reducing the marketability of fruit. Previously, the disease was known to be present in the United States only in portions of several counties in south-central Pennsylvania.

Plum pox virus is the cause of an extremely serious plant disease, affecting a number of Prunus species, including peach, nectarine, apricot, plum, and almond. Infection eventually results in severely reduced fruit production, and the fruit that is produced is often misshapen and blemished. There is no cure or treatment for the disease once a tree becomes infected. In Europe, where plum pox has been present for a number of years, the disease is considered to be the most serious disease affecting susceptible Prunus species. The disease is spread over short distances by a number of different aphid species, and over longer distances through the movement of infected budwood and nursery stock.

Since the detection of plum pox virus in Pennsylvania in 1999, an aggressive eradication program has been conducted in that State, involving a cooperative effort between APHIS and the Pennsylvania Department of Agriculture. The program in Pennsylvania has resulted in significant success, with no spread of the disease outside of the general area in which it was first found in 1999, and with only trace amounts of plum pox virus being detected in 2005 and 2006. Following the detection of plum pox virus in Pennsylvania, APHIS has worked with States in which there was commercial production of peaches and other stone fruit to conduct a series of national surveys. Prior to 2006, the result of these surveys has always been negative.

As a result of a cooperative survey conducted by APHIS and the New York State Department of Agriculture and Markets, plum pox virus was confirmed in Niagara County, NY, on July 7, 2006. A total of three infected trees were discovered in two commercial orchard locations. Cooperative surveys were also conducted in Michigan, in this case involving APHIS and the Michigan Department of Agriculture. As a result of these surveys, plum pox virus was detected in a single plum tree at the Michigan State University's Southwest Michigan Research and Education Center, a State-operated facility, on August 11, 2006.

In order to prevent the spread of plum pox virus from these new detection sites, an aggressive eradication program will be necessary. The eradication program will involve removal of all infected trees and of all host trees within 500 meters, conducting delimiting and detection surveys over a period of several years to ensure that there are no additional infestations, and establishing appropriate safeguards to ensure that additional spread of plum pox virus does not occur while the eradication program is being completed. Following consultation with State officials from both New York and Michigan, the Department has determined that the States do not have sufficient resources to effectively carry out an eradication program.

The infestation of plum pox virus represents a threat to U.S. stone fruit crops. It constitutes a real danger to the national economy and a potential serious burden on interstate and foreign commerce. Therefore, the Department has determined that an extraordinary emergency exists because of the existence of plum pox virus in Michigan and New York.

In accordance with 7 U.S.C. 7715, this declaration of extraordinary emergency authorizes the Secretary to: (1) Hold, seize, quarantine, treat, apply other remedial measures to, destroy, or otherwise dispose of, any plant, biological control organism, plant product, article, or means of conveyance that the Secretary has reason to believe is infected by or contains the plum pox virus; (2) quarantine, treat, or apply other remedial measures to any premises, including any plants, biological control organisms, plant products, articles, or means of conveyance on the premises, that the Secretary has reason to believe is infected by or contaminated with the plum pox virus; (3) quarantine any State or portion of a State in which the Secretary finds the plum pox virus or any plant, biological control organism, plant product, article, or means of conveyance that the Secretary has reason to believe is infected by or contaminated with the plum pox virus; and (4) prohibit or restrict the movement within a State of any plant, biological control organism, plant product, article, or means of conveyance when the Secretary determines that the prohibition or restriction is necessary to prevent the dissemination of the plum pox virus or to eradicate the plum pox virus. The Governors of New York and Michigan have been informed of these facts.

EFFECTIVE DATE: This declaration of extraordinary emergency shall become effective May 18, 2007.

Mike Johanns,
Secretary of Agriculture.

[FR Doc. E7-10044 Filed 5-22-07; 8:45 am]

BILLING CODE 3410-34-P